DEPARTMENT OF TRANSPORTATION

Federal Highway Administration

Environmental Impact Statement: Dallas and Kaufman Counties, Texas

AGENCY: Texas Department of Transportation (TxDOT), Federal Highway Administration (FHWA), Department of Transportation.

ACTION: Federal notice of intent to prepare an Environmental Impact Statement (EIS).

SUMMARY: FHWA, on behalf of TxDOT, is issuing this notice to advise the public that an EIS will be prepared for a proposed transportation project to construct the East Branch extension of the President George Bush Turnpike (PGBT), connecting Interstate Highway 30 (I-30) to I-20 in eastern Dallas County, Texas. The project sponsor is the North Texas Tollway Authority (NTTA).

FOR FURTHER INFORMATION CONTACT: Mr. Craig Hancock, NTTA Senior Program Manager of Planning/Environment, 5900 W Plano Pkwy., Plano, Texas 75093; Phone (214) 224-2434 or email at chancock@ntta.org. NTTA's normal business hours are 8:00 a.m.-6:00 p.m. (central standard time), Monday through Friday.

SUPPLEMENTARY INFORMATION: The environmental review, consultation, and other actions required by applicable Federal environmental laws for this project are being, or have been, carried-out by TxDOT pursuant to 23 U.S.C. 327 and a Memorandum of Understanding dated December 9, 2019, and executed by FHWA and TxDOT.

The purpose of the proposed project is to reduce congestion and improve mobility between I-30 and I-20 in eastern Dallas County while contributing to improved system linkage within the Metropolitan Planning Area. The proposed project is needed because local roadways are insufficient for local and regional traffic movement (traffic congestion/capacity issues); increases in corporate, industrial, and retail development, population growth, and residential developments create a higher demand for roadways (increasing transportation demand); and incomplete roadway networks increase deficiencies and decrease mobility (deficient system linkage).

The proposed project would construct the East Branch extension of the PGBT, a six-lane, limited-access toll road on new location, connecting I-30 to I-20 in eastern Dallas County, Texas. Each alternative is approximately 11 miles long.

The EIS will evaluate a range of build alternatives and a no-build alterative. Project build alternatives are located in Dallas and Kaufman Counties and would pass through the municipalities of Garland, Dallas, Sunnyvale and Mesquite. The proposed project would provide a limited-access toll road, with discontinuous one-way frontage roads on each side within an anticipated right-of-way width of 400 feet. The typical section would consist of three 12-foot (ft.) wide travel lanes in each direction and 10-ft. wide inside and outside shoulders. Grade-separated interchanges would include 14-ft. wide ramps with 4-ft. wide inside shoulders and 8-ft. wide outside shoulders. Bridges and overpasses along the main lanes would have a minimum vertical clearance of 16.5 feet with minimum vertical clearance over railroads at 23.5 feet. Sections of the new roadway may be elevated or not include frontage roads to lessen impacts.

Both build alternatives would result in potential impacts to wetlands and waters of the US, floodplain/floodway encroachment and need for compensatory storage, conversion of farmland to transportation use, cultural resources, wildlife/habitat, air quality, traffic noise, the visual environment, induced growth, and cumulative effects.

The proposed action may require issuance of an Individual or Nationwide Permit under section 404 of the Clean Water Act, section 401 Water Quality Certification, section 402/Texas Pollution Discharge Elimination System Permit; conformance with Executive Orders on Environmental Justice (12898 and 14096), Limited English Proficiency (13166), Wetlands (11990), Floodplain Management (11988), Invasive Species (13112); and compliance with section 106 of the National Historic Preservation Act, section 7 of the Endangered Species Act, the Migratory Bird Treaty Act, section 4(f) of the US Department of Transportation Act (49 U.S.C. 303), section 6(f) of the Land and Water Conservation Act (54 U.S.C 200305(f)(3)), title VI of the Civil Rights Act, and other applicable Federal and State regulations.

The NTTA and TxDOT anticipate issuing the Draft EIS for public and agency review in November 2025 and completing the study process with a combined Final EIS and Record of Decision by July 2026.

TxDOT will issue a single Final Environmental Impact Statement and Record of Decision document pursuant to 23 U.S.C. 139(n)(2), unless TxDOT determines statutory criteria or practicability considerations preclude issuance of a combined document.

In accordance with 23 U.S.C. 139, cooperating agencies, participating agencies, and the public will be given an opportunity for continued input on project development. A public scoping meeting is planned for August 20, 2024, 5:30 p.m. (central standard time), at the Mesquite Convention Center located at 1750 Rodeo Drive, Mesquite, TX 75149. The public scoping meeting will provide an opportunity for the public to review and comment on the draft coordination plan and schedule, the project purpose and need, the range of alternatives, and methodologies and level of detail for analyzing alternatives. It will also allow the public an opportunity to provide input on any expected environmental impacts, anticipated permits or other authorizations, and any significant issues that should be analyzed in depth in the EIS. In addition to the public scoping meeting, a public hearing will be held after the draft EIS is prepared. Public notice will be given of the time and place of the meeting and hearing.

The public meeting will be conducted in English. If you need an interpreter or document translator because English is not your primary language or you have difficulty communicating effectively in English, one will be provided to you. If you have a disability and need assistance, special arrangements can be made to accommodate most needs. If you need interpretation or translation services or you are a person with a disability who requires an accommodation to attend and participate in the public meeting, please contact Mr. Brian Sanfilippo, NTTA Project Communications Manager, at (214) 224-2481 no later than 4 p.m. CT, August 15, 2024. Please be aware that advance notice is required as some services and accommodations may require time to arrange.

The public is requested to provide public comment on alternatives or impacts and on relevant information, studies, or analyses with respect to this proposed project. Comments may be provided in writing by mail to Craig Hancock at the NTTA, located at 5900 W Plano Pkwy., Plano, Texas 75093 or by email to chancock@ntta.org. Comments must be received by September 19, 2024.

(Catalog of Federal Domestic Assistance Program Number 20.205, Highway Planning and Construction.)

Authority: 23 CFR 771.123(a).

Michael T. Leary,
Director, Planning and Program Development, Federal Highway Administration.

[FR Doc. 2024-16026 Filed 7-19-24; 8:45 am]

BILLING CODE 4910-22-P